DEPARTMENT OF ENERGY

Federal Energy Regulatory Commission

[Docket Nos. CP07-62-000, CP07-63-000, CP07-64-000, CP07-65-000]

AES Sparrows Point LNG, LLC; Mid-Atlantic Express, L.L.C.; Notice of Availability of the Final Environmental Impact Statement for the Proposed Sparrows Point LNG Terminal and Pipeline Project

December 5, 2008.

The staff of the Federal Energy Regulatory Commission (FERC or Commission) has prepared this final Environmental Impact Statement (EIS) for the construction and operation of a liquefied natural gas (LNG) import terminal and natural gas pipeline facilities proposed by AES Sparrows Point LNG, LLC and Mid-Atlantic Express, L.L.C. (collectively referred to as AES) in the above-referenced dockets. The Project facilities would be located in Baltimore, Harford, and Cecil Counties, Maryland, and in Lancaster and Chester Counties, Pennsylvania.

The final EIS was prepared to satisfy the requirements of the National Environmental Policy Act (NEPA). The U.S. Army Corps of Engineers (COE), the U.S. Coast Guard, (Coast Guard), and the U.S. Environmental Protection Agency (EPA) are cooperating agencies for the development of this EIS. A cooperating agency has jurisdiction by law or special expertise with respect to potential environmental impacts associated with the proposal and is involved in the NEPA analysis.

Based on the analysis included in the EIS, the FERC staff concludes that if the Project is constructed and operated in accordance with applicable laws and regulations, and with implementation of AES's proposed mitigation measures, and the additional mitigation measures recommended by staff, it would have mostly limited adverse environmental impacts.

AES proposes to construct and operate an LNG import terminal in an industrial port setting on Sparrows Point, in Baltimore County, Maryland. The LNG terminal would consist of facilities capable of unloading LNG ships, storing up to 480,000 cubic meters (m³) of LNG (10.2 billion cubic feet of natural gas equivalent), vaporizing the LNG, and sending out natural gas at a baseload rate of 1.5 billion cubic feet per day (Bcfd). The maximum potential gas sendout capacity without expansion is 1.595 Bcfd. Mid-Atlantic Express proposes to interconnect its pipeline with three existing interstate natural gas pipelines by construction of a single, approximate 88-mile-long pipeline north, to the vicinity of Eagle, Pennsylvania.

The final EIS addresses the potential environmental effects of the construction and operation of the following LNG terminal and natural gas pipeline facilities.

• A ship unloading facility, with two berths, capable of receiving LNG ships with capacities up to 217,000 m³;

• Three 160,000 m³ (net capacity) full-containment LNG storage tank, comprised of 9 percent nickel inner tank, pre-stressed concrete outer tank, and a concrete roof;

• A closed-loop shell and tube heat exchanger vaporization system;

• Various ancillary facilities including administrative offices, warehouse, main control room, security building, and a platform control room;

• Meter and regulation station within the LNG Terminal site;

• Dredging an approximate 118 acre area in the Patapsco River to −45 feet below mean lower low water to accommodate the LNG vessels; and

• Approximately 88 miles of 30-inch-diameter natural gas pipeline (approximately 48 miles in Maryland and 40 miles in Pennsylvania), a pig launcher and receiver facility at the beginning and ending of the pipeline, 10 mainline valves, and three meter and regulation stations, one at each of three interconnection sites at the end of the pipeline.

The Project would also include the vessel transit from the LNG vessel's entrance into U.S. territorial waters, through its transit to and from the LNG terminal at Sparrows Point.

The final EIS has been placed in the public files of the FERC and is available for distribution and public inspection at: Federal Energy Regulatory Commission, Public Reference Room, 888 First Street, NE., Room 2A, Washington, DC 20426, (202) 502-8371.

Only volume 1 of the final EIS, containing text of the analysis, was printed in hard copy. Volume 2, containing additional appendices, was produced as .pdf files on a compact disk (CD) that can be read by a computer with a CD-ROM drive. A limited number of hard copies and CDs of the final EIS are available from the FERC's Public Reference Room, identified above. This final EIS is also available for public viewing on the FERC's Internet Web site at http://www.ferc.gov, via the eLibrary link.

Copies of this final EIS have been mailed to Federal, State, and local agencies; elected officials; Indian tribes and Native American organizations with an interest in the project area; interveners; regional environmental organizations and public interest groups; affected landowners; local libraries and newspapers; and other interested parties. Hard copies of volume 1 were mailed to those who specifically requested them, while all others on the mailing list were sent both volumes of the EIS on CDs.

Additional information about the project is available from the Commission's Office of External Affairs at 1-866-208-FERC (3372). The administrative public record for this proceeding to date is on the FERC Internet Web site (http://www.ferc.gov). Go to Documents & Filings and choose the eLibrary link. Under eLibrary, click on “General Search,” and enter the docket number excluding the last three digits in the Docket Number field (e.g., CP07-62). Be sure you have selected an appropriate date range. For assistance, please contact FERC Online Support at: FERCOnlineSupport@ferc.gov or toll free at 1-866-208-3676, or for TTY call 202-502-8659. The eLibrary link on the FERC Internet Web site also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to the eSubscription link on the FERC Internet Web site (http://www.ferc.gov/docs-filing/esubscription.asp).

Kimberly D. Bose,
Secretary.

[FR Doc. E8-29361 Filed 12-10-08; 8:45 am]

BILLING CODE 6717-01-P